DEPARTMENT OF HEALTH AND HUMAN SERVICES

Food and Drug Administration

[Docket Nos. FDA-2014-N-1721; FDA-2005-N-0101; FDA-2021-N-0386; FDA-2012-N-0294; and FDA-2018-N-3404]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: JonnaLynn Capezzuto, Office of Operations, Food and Drug Administration, Three White Flint North, 10A-12M, 11601 Landsdown St., North Bethesda, MD 20852, 301-796-3794, PRAStaff@fda.hhs.gov.

SUPPLEMENTARY INFORMATION: The following is a list of FDA information collections approved recently by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control No. | Date approval expires
Investigational New Drug Regulations | 0910-0014 | 3/31/2025
Prescription Drug User Fee Program | 0910-0297 | 3/31/2025
Medical Device Reporting | 0910-0437 | 3/31/2025
Food Additives; Food Contact Substances Notification System | 0910-0495 | 3/31/2025
Generic Drug User Fee Program | 0910-0727 | 3/31/2025

Dated: May 4, 2022.
Lauren K. Roth,
Associate Commissioner for Policy.

[FR Doc. 2022-10017 Filed 5-9-22; 8:45 am]

BILLING CODE 4164-01-P